Proclamation 9216 of December 3, 2014

World AIDS Day, 2014

By the President of the United States of America

A Proclamation

In communities across our Nation and around the world, we have made extraordinary progress in the global fight against HIV/AIDS. Just over three decades ago, when we knew only the devastation HIV inflicted, those living with it had to fight just to be treated with dignity and compassion, and since the first cases of AIDS were reported, tens of millions of vibrant men and women have lost their lives to this deadly virus. Today, we have transformed what it means to live with HIV/AIDS. More effective prevention, treatment, and care now save millions of lives while awareness has soared and research has surged. This World AIDS Day, we come together to honor all those who have been touched by HIV/AIDS and celebrate the promising public health and scientific advances that have brought us closer to our goal of an AIDS-free generation.

Since I took office, more people who are infected with HIV have learned of their status, allowing them to access the essential care that can improve their health, extend their lives, and prevent transmission of the virus to others. My Administration has made strides to limit new infections and reduce HIV-related disparities and health inequalities, and we have nearly eliminated the waiting list for the AIDS Drug Assistance Program. For many, with testing and access to the right treatment, a disease that was once a death sentence now offers a good chance for a healthy and productive life.

Despite these gains, too many with HIV/AIDS, especially young Americans, still do not know they are infected; too many communities, including gay and bisexual men, African Americans, and Hispanics remain disproportionately impacted; and too many individuals continue to bear the burden of discrimination and stigma. There is more work to do, and my Administration remains steadfast in our commitment to defeating this disease. Guided by our National HIV/AIDS Strategy, we are working to build a society where every person has access to life-extending care, regardless of who they are or whom they love. The Affordable Care Act prohibits insurance companies from denying coverage due to a pre-existing condition, such as HIV/AIDS, and requires that most health plans cover HIV screenings without copays for everyone ages 15 to 65 and others at increased risk. We have expanded opportunities for groundbreaking research, and we continue to invest in innovation to develop a vaccine and find a cure. And this summer, my Administration held a series of listening sessions across the country to better understand the successes and challenges of those fighting HIV at the local and State level.

In the face of a disease that extends far beyond our borders, the United States remains committed to leading the world in the fight against HIV/AIDS and ensuring no one is left behind. Hundreds of thousands of adolescent girls and young women are infected with HIV every year, and we are working to reach and assist them and every community in need. As part of the President's Emergency Plan for AIDS Relief, over 7 million people with HIV around the globe are receiving antiretroviral treatment, a four-fold increase since the start of my Administration. In countries throughout the world, our initiatives are improving the lives of women and girls, accelerating life-saving treatment for children, and supporting healthy, robust communities.

As a Nation, we have made an unwavering commitment to bend the curve of the HIV epidemic, and the progress we have seen is the result of countless people who have shared their stories, lent their strength, and led the fight to spare others the anguish of this disease. Today, we remember all those who lost their battle with HIV/AIDS, and we recognize those who agitated and organized in their memory. On this day, let us rededicate ourselves to continuing our work until we reach the day we know is possible—when no child has to know the pain of HIV/AIDS and no life is limited by this virus.

NOW, THEREFORE, I, BARACK OBAMA, President of the United States of America, by virtue of the authority vested in me by the Constitution and the laws of the United States do hereby proclaim December 1, 2014, as World AIDS Day. I urge the Governors of the States and the Commonwealth of Puerto Rico, officials of the other territories subject to the jurisdiction of the United States, and the American people to join me in appropriate activities to remember those who have lost their lives to AIDS and to provide support and comfort to those living with this disease.

IN WITNESS WHEREOF, I have hereunto set my hand this twenty-eighth day of November, in the year of our Lord two thousand fourteen, and of the Independence of the United States of America the two hundred and thirty-ninth.

[FR Doc. 2014-28560

Filed 12-2-14; 11:15 am]

Billing code 3295-F5